DEPARTMENT OF DEFENSE

GENERAL SERVICES ADMINISTRATION

NATIONAL AERONAUTICS AND SPACE ADMINISTRATION

48 CFR Parts 22, 25, and 52

[FAC 2005-08; FAR Case 2005-030]

RIN 9000-AK40

Federal Acquisition Regulation; Trade Agreements—Thresholds

AGENCIES: Department of Defense (DoD), General Services Administration (GSA), and National Aeronautics and Space Administration (NASA).

ACTION: Interim rule with request for comments.

SUMMARY: The Civilian Agency Acquisition Council and the Defense Acquisition Regulations Council (Councils) have agreed on an interim rule amending the Federal Acquisition Regulation (FAR) to implement the increased thresholds for the World Trade Organization Government Procurement Agreement and Free Trade Agreements.

DATES: Effective Date: January 5, 2006.

Comment Date: Interested parties should submit written comments to the FAR Secretariat on or before March 6, 2006 to be considered in the formulation of a final rule.

ADDRESSES: Submit comments identified by FAC 2005-08, FAR case 2005-030, by any of the following methods:

• Federal eRulemaking Portal: http://www.regulations.gov. Follow the instructions for submitting comments.

• Agency Web Site: http://www.acqnet.gov/far/ProposedRules/proposed.htm. Click on the FAR case number to submit comments.

• E-mail: farcase.2005-030@gsa.gov. Include FAC 2005-08, FAR case 2005-030 in the subject line of the message.

• Fax: 202-501-4067.

• Mail: General Services Administration, Regulatory Secretariat (VIR), 1800 F Street, NW, Room 4035, ATTN: Laurieann Duarte, Washington, DC 20405.

Instructions: Please submit comments only and cite FAC 2005-08, FAR case 2005-030, in all correspondence related to this case. All comments received will be posted without change to http://www.acqnet.gov/far/ProposedRules/proposed.htm, including any personal and/or business confidential information provided.

FOR FURTHER INFORMATION CONTACT: For clarification of content, contact Ms. Kimberly Marshall, Procurement Analyst, at (202) 219-0986. Please cite FAC 2005-08, FAR case 2005-030. For information pertaining to status or publication schedules, contact the FAR Secretariat at (202) 501-4755.

SUPPLEMENTARY INFORMATION:

A. Background

Every two years, the trade agreements thresholds are escalated according to a pre-determined formula set forth in the agreements. The United States Trade Representative published the new thresholds in the December 12, 2005, Federal Register (70 FR 73510 to 73511) and has specified the following new thresholds:

Trade Agreement | Supply Contract (equal to or exceeding) | Service Contract (equal to or exceeding) | Construction Contract (equal to or exceeding)
WTO GPA | $193,000 | $193,000 | $7,407,000
FTAs |  |  |
NAFTA |  |
-Canada | 25,000 | 64,786 | 8,422,165
-Mexico | 64,786 | 64,786 | 8,422,165
Chile FTA | 64,786 | 64,786 | 7,407,000
Singapore FTA | 64,786 | 64,786 | 7,407,000
Australia FTA | 64,786 | 64,786 | 7,407,000

This is not a significant regulatory action and, therefore, was not subject to review under Section 6(b) of Executive Order 12866, Regulatory Planning and Review, dated September 30, 1993. This rule is not a major rule under 5 U.S.C. 804.

B. Regulatory Flexibility Act

This interim rule is not expected to have a significant economic impact on a substantial number of small entities within the meaning of the Regulatory Flexibility Act,5 U.S.C. 601, et seq. The threshold changes are in line with inflation and only maintain the status quo. Therefore, an Initial Regulatory Flexibility Analysis has not been performed. We invite comments from small business concerns and other interested parties on this issue. The Councils will also consider comments from small entities concerning the affected FAR Parts 22, 25, and 52 in accordance with 5 U.S.C. 610. Interested parties must submit such comments separately and should cite 5 U.S.C 601, et seq. (FAC 2005-08, FAR case 2005-030), in correspondence.

C. Paperwork Reduction Act

The Paperwork Reduction Act does apply; however, the changes to the FAR do not impose additional information collection requirements to the paperwork burden previously approved under OMB Control Numbers 9000-0025, 9000-0130, 9000-0141, and 9000-0155.

D. Determination to Issue an Interim Rule

A determination has been made under the authority of the Secretary of Defense (DoD), the Administrator of General Services (GSA), and the Administrator of the National Aeronautics and Space Administration (NASA) that urgent and compelling reasons exist to promulgate this interim rule without prior opportunity for public comment. The United States Trade Representative published the thresholds in the December 12, 2005, Federal Register (70 FR 73510 to 73511). This action is necessary because these threshold changes go into effect January 1, 2006. However, pursuant to Public Law 98-577 and FAR 1.501, the Councils will consider public comments received in response to this interim rule in the formation of the final rule.

List of Subjects in 48 CFR Parts 22, 25, and 52

Government procurement.

Dated: December 28, 2005.
Gerald Zaffos,
Director, Contract Policy Division.

Therefore, DoD, GSA, and NASA amend 48 CFR parts 22, 25, and 52 as set forth below:

1. The authority citation for 48 CFR parts 22, 25, and 52 continues to read as follows:

Authority: 40 U.S.C. 121(c); 10 U.S.C. chapter 137; and 42 U.S.C. 2473(c).

PART 22—APPLICATION OF LABOR LAWS TO GOVERNMENT ACQUISITIONS

22.1503 [Amended]

2. Amend section 22.1503 by removing from paragraph (b)(3) “$58,550” and adding “$64,786” in its place; and removing from paragraph (b)(4) “$175,000” and adding “$193,000” in its place.

PART 25—FOREIGN ACQUISITION

25.202 [Amended]

3. Amend section 25.202 by removing from paragraph (c) “$6,725,000” and adding “$7,407,000” in its place.

4. Amend section 25.402 by revising the table following paragraph (b) to read as follows:

25.402 General.

* * * * *

(b) * * *

Trade Agreement | Supply Contract (equal to or exceeding) | Service Contract (equal to or exceeding) | Construction Contract (equal to or exceeding)
WTO GPA | $193,000 | $193,000 | $7,407,000
FTAs |  |  |
NAFTA |  |
-Canada | 25,000 | 64,786 | 8,422,165
-Mexico | 64,786 | 64,786 | 8,422,165
Chile FTA | 64,786 | 64,786 | 7,407,000
Singapore FTA | 64,786 | 64,786 | 7,407,000
Australia FTA | 64,786 | 64,786 | 7,407,000
Israeli Trade Act | 50,000 | ....... | .......

25.601 [Amended]

5. Amend section 25.601 by removing from paragraph (a)(1) “$175,000” and adding “$193,000” in its place; removing from paragraph (a)(2) “$6,725,000” and adding “$7,407,000” in its place; and removing from paragraph (a)(3)(ii) “$175,000” and adding “$193,000” in its place.

25.1101 [Amended]

6. Amend section 25.1101 by—

a. Removing from paragraph (b)(1)(i)(A) “$175,000” and adding “$193,000” in its place; removing from paragraph (b)(1)(iii) “$58,550” and adding “$64,786” in its place; and removing from paragraph (b)(2)(iii) “$58,550” and adding “$64,786” in its place;

b. Removing from paragraph (c)(1) “$175,000” and adding “$193,000” in its place; and

c. Removing from paragraph (d) “$175,000” and adding “$193,000” in its place.

25.1102 [Amended]

7. Amend section 25.1102 by—

a. Removing from the introductory text of paragraph (a) “$6,725,000” and adding “$7,407,000” in its place;

b. Removing from the introductory text of paragraph (c) “$6,725,000” and adding “$7,407,000” in its place; and removing from paragraph (c)(3) “$6,725,000” and “$7,611,532” and adding “$7,407,000” and “$8,422,165”, respectively, in their place; and

c. Removing from paragraph (d)(3) “$6,725,000” and “$7,611,532” and adding “$7,407,000” and “$8,422,165”, respectively, in their place.

25.1103 [Amended]

8. Amend section 25.1103 by removing from paragraphs (c)(1)(i) and (c)(1)(ii)(B) “$175,000” and adding “$193,000” in their place.

PART 52—SOLICITATION PROVISIONS AND CONTRACT CLAUSES

52.212-5 [Amended]

9. Amend section 52.212-5 by revising the date of the clause to read “(JAN 2006)” and removing from paragraph (b)(15) of the clause “(Jun 2004)” and adding “(Jan 2006)” in its place.

52.213-4 [Amended]

10. Amend section 52.213-4 by revising the date of the clause to read “(Jan 2006)” and removing from paragraph (b)(1)(i) of the clause “(Jun 2004)” and adding “(Jan 2006)” in its place.

52.222-19 [Amended]

11. Amend section 52.222-19 by revising the date of the clause to read “(JAN 2006)”; removing from paragraph (a)(3) of the clause “$58,550” and adding “$64,786” in its place; and removing from paragraph (a)(4) of the clause “$175,000” and adding “$193,000” in its place.

[FR Doc. 06-54 Filed 1-4-06; 8:45 am]

BILLING CODE 6820-EP-S